DEPARTMENT OF TRANSPORTATION

Coast Guard

[USCG 2000-8229]

Deepwater Capability Replacement Project: Programmatic Environmental Impact Statement

AGENCY: Coast Guard, DOT.

ACTION: Notice of intent and request for public comments; public meeting notice.

SUMMARY: The Coast Guard announces its intent to prepare a draft Programmatic Environmental Impact Statement (PEIS) for the development of a proposed action to modernize and replace the aging and technologically obsolete Coast Guard assets required for Deepwater missions. The Deepwater Capability Replacement Project (Deepwater Project) has been initiated to ensure the timely acquisition over the next few decades of appropriate assets for Deepwater missions. The Coast Guard seeks public and agency input on the scope of the PEIS. Specifically, the Coast Guard requests input on any environmental concerns that the public may have related to existing Deepwater assets, the proposal to replace and/or modernize these assets, sources of relevant data or information, and any suggested analysis methods for inclusion in the PEIS.

DATES: Comments must reach the Coast Guard on or before January 19, 2001. Open houses will be held on the following dates:

Oakland, CA, November 27, 2000 from 2 p.m. to 8 p.m.

Seattle, WA, November 28, 2000 from 2 p.m. to 8 p.m.

Juneau, AK, November 30, 2000 from 2 p.m. to 8 p.m.

Cleveland, OH, December 4, 2000 from 2 p.m. to 8 p.m.

Cambridge, MA, December 5, 2000 from 2 p.m. to 8 p.m.

Portsmouth, VA, December 7, 2000 from 2 p.m. to 8 p.m.

New Orleans, LA, December 11, 2000 from 2 p.m. to 8 p.m.

Miami, FL, December 12, 2000 from 2 p.m. to 8 p.m.

Honolulu, HI, December 14, 2000 from 2 p.m. to 8 p.m.

ADDRESSES: The open houses will be held at the following locations:

Oakland, CA—Marriott at City Center, Room 210, 1001 Broadway

Seattle, WA—Seattle Center, Shaw Room, Northwest Rooms Building, 305 Harrison Street

Juneau, AK—Centennial Hall Convention Center, Egan Room, 101 Egan Drive

Cleveland, OH—Cleveland State University, University Center, Room 364, 2121 Euclid Avenue

Cambridge, MA—Radisson Hotel, Ballroom, 777 Memorial Drive

Portsmouth, VA—Tidewater Community College, Waterfront Room, 7000 College Drive

New Orleans, LA—New Orleans Public Library, Smith Branch, 6301 Canal Blvd

Miami, FL—West Dade Regional Library, Auditorium, 9445 SW 24th Street

Honolulu, HI—Honolulu Maritime Center, Pacific Room, Pier 7 Honolulu Harbor

Comments may be submitted in several ways. To make sure your comments and related material are not entered more than once in the docket, please submit them by only one of the following means:

(1) By mail to the Docket Management Facility (USCG-2000-8229), US Department of Transportation, Room PL-401, 400 Seventh Street SW, Washington, DC 20590-0001.

(2) By delivery to Room PL-401 on the Plaza Level of the Nassif Building, 400 Seventh Street SW, Washington, DC between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments will become part of this docket and will be available for inspection or copying at Room PL-401, located on the Plaza Level of the Nassif Building at the above address between 9 a.m. and 5 p.m., Monday through Friday, except Federal holidays. You may also view this docket, including this notice and comments, on the Internet at http://dms.dot.gov.

FOR FURTHER INFORMATION CONTACT: If you have questions about the project, you may contact LCDR Eric Johnson, Deepwater Environmental & Facilities Planner, by phone at (202) 267-1665 or by e-mail at ejohnson@comdt.uscg.mil or at the Coast Guard's Deepwater EIS Web Page at http://www.deepwaterEIS.com. For questions on viewing, or submitting material to the docket, contact Dorothy Beard, Chief, Dockets, DOT, 202-366-9329.

SUPPLEMENTARY INFORMATION:

Request for Comments

We encourage you to submit comments and related materials on this notice. Persons submitting comments should include their names and addresses, identify this notice (USCG-2000-8229), and the reasons for each comment. You may submit your comments and materials by mail, hand delivery, fax, or electronic means to the Docket Management Facility at the address given under ADDRESSES; but please submit your comments and materials by only one means. If you submit them by mail or hand delivery, submit them in an unbound format, no larger than 8½ by 11 inches, suitable for copying and electronic filing. If you submit them by mail and would like to know if they reached the Facility, please enclose a stamped, self-addressed postcard or envelope. We will consider all comments and materials received during the comment period. For additional information about this notice or the Programmatic Environmental Impact Statement, contact Joan Lang, Deepwater Project NEPA Coordinator (under contract to the Coast Guard), 202-267-0284, or via email at jlang@comdt.uscg.mil.

Open Houses

The Coast Guard intends to hold open houses at the times and locations listed in DATES and ADDRESSES. Comments on issues that the public feels should be included in the Programmatic Environmental Impact Statement will be accepted at these meetings.

Background Information

Deepwater missions are defined as Coast Guard operations that occur at least 50 nautical miles offshore, or require an extended on-scene presence, long transit times to reach the operations area, and/or the forward deployment of forces. The Coast Guard's current Deepwater assets—medium- and high-endurance cutters, fixed and rotary wing aircraft and their supporting command, control and communications systems—are aging and technologically obsolete. The average age of the Coast Guard's Deepwater cutters is 27 years, making this force older than 40 of the world's 42 major naval fleets. While some cutters have received mid-life upgrades, during the next ten to fifteen years all of our assets will reach the end of their projected service life. As a result of this age, Coast Guard assets lack the ability and technology necessary for efficient and effective mission performance.

The Deepwater Project is the Coast Guard's answer, ensuring the timely acquisition of appropriate resources to remedy the aging fleet dilemma and meeting deepwater mission requirements. These Deepwater missions include search and rescue, maritime law enforcement (MLE, including drug LE, living marine resources LE and alien migrant interdiction), national defense and marine environmental protection. Detailed information about the Project is included in the Appendix to this notice. It may also be found at the Project's web site at http://www.uscg.mil/deepwater.

Proposed Action

In accordance with the National Environmental Policy Act (NEPA) of 1969 (Section 102[2][c]), as implemented by the Council on Environmental Quality regulations (40 CFR Parts 1500-1508), Department of Transportation (DOT) Order 5610.1C (Procedures for Considering Environmental Impacts), and Coast Guard Policy (NEPA: Implementing Procedures and Policy for Considering Environmental Impacts, COMDTINST M16475.1C), the Coast Guard intends to prepare a Programmatic Environmental Impact Statement (PEIS) on the Deepwater Project. The purpose of a PEIS is to develop a high-level approach and direction for implementing a broad policy or program. The Deepwater Project meets those criteria.

NEPA requires federal agencies to consider all significant aspects of environmental impacts that may result from a proposed action, to inform the public of potential impacts and alternatives, and to facilitate public involvement in the assessment process. The core of the impact assessment process is the environmental impact statement, or EIS. The EIS must include, among other topics, discussions of the purpose and need for the proposed action, a description of alternatives, and an evaluation of the environmental impacts of the proposed action and alternatives. Once an EIS is completed, the lead agency prepares a record of decision (ROD), a legally binding document that identifies the agency's decision including any mitigation measures required to offset impacts.

A programmatic EIS is prepared on a “broad federal action such as the adoption of new agency programs”. When preparing a PEIS, the agency may evaluate the program based on common geographic locations, similarities of impacts, or stages of development. Because no site-specific homeporting and bedding down decisions—allocating assets and staff to Coast Guard facilities—will be made during this stage of the project, the PEIS is expected to facilitate and expedite the preparation of subsequent project-specific NEPA documents.

The PEIS will address the general environmental impacts of each of the three alternative systems being considered for replacement of the current Deepwater system, and the no action alternative, while subsequent analyses will address specific implementing actions, such as homeporting new ships and aircraft. Hence, as the first-tier EIS, the PEIS would cover general issues in a broader program-oriented analysis. Subsequent NEPA documentation will concentrate on the issues specific to the action being considered.

The environment to be affected by the proposed action may be the entire marine and terrestrial coastal region of the continental US, Alaska, Hawaii, the Caribbean, Guam, and the Great Lakes where the Coast Guard has Deepwater facilities, as well as the areas where Deepwater missions are conducted. Deepwater missions are defined as Coast Guard operations that occur at least 50 nautical miles offshore, or require an extended on-scene presence, long transit times to reach the operations area, and/or the forward deployment of forces. The PEIS will discuss the general aspects of the affected environment, such as air quality, water quality, terrestrial and marine vegetation and wildlife, endangered species and their habitat, wetlands, historic and cultural resources, public safety, and land use. The PEIS will compare the potential environmental impacts and benefits that would result from each of the three alternatives and the no action alternative. For the purposes of the PEIS, the location of these assets throughout the country will be designated on a regional level. As required by NEPA, the Coast Guard also will analyze the “no action” alternative as a baseline for comparing the impacts of the proposed project.

The Coast Guard encourages public participation in the PEIS process. Presently, the Coast Guard is conducting a nationwide public scoping process to help identify environmental issues to be addressed in the PEIS. The scoping period will be 45 days starting with publication of this notice in the Federal Register. The public and agencies will be able to select from a variety of outreach tools to learn about the Deepwater Project. Multiple methods for providing comments will be available, including mail, Internet, and fax. These opportunities will be widely publicized through multiple news media and the Deepwater Project EIS web site at http://www.DeepwaterEIS.com. Information on the Coast Guard's Deepwater mission can be found at http://www.uscg.mil/deepwater. In addition, the Coast Guard will conduct open houses according to the schedule provided in this Federal Register notice (see DATES). This process is designed to ensure the public participation process is accessible to all interested parties and that it meets the goal established by Executive Order 12898 (Environmental Justice) by including all affected low-income and minority populations in the public participation process.

In order to obtain maximum public input and participation, the USCG will release all relevant information allowed by law. Some procurement sensitive and other information may be withheld from public documents. To the fullest extent possible, the USCG will segregate any procurement sensitive information that is exempt from disclosure under the Freedom of Information Act (FOIA) into an appendix to facilitate public review of the remainder of the NEPA document. If segregation of information exempt from FOIA would leave essentially meaningless material, the USCG will withhold portions of the NEPA document or the entire NEPA document from the public. However, the USCG shall circulate the complete NEPA document including procurement sensitive information withheld from public review, to the USCG decision makers, in accordance with the CEQ, DOT and USCG Regulations.

Following the scoping process, the Coast Guard will prepare a Draft PEIS. Unless the USCG finds that the entire NEPA document must be withheld from public review, a notice of availability will be published in the Federal Register and national newspapers when the Draft PEIS is available. Public notices will be mailed or e-mailed to those on the PEIS distribution list. This period will provide the public with an opportunity to review the document and to offer appropriate comments. Public hearings may be held during the review period to capture verbal comments on the Draft PEIS. If public hearings will be held, the time and place of the hearings will be announced in the Federal Register and other media.

Unless the USCG finds that the entire NEPA document must be withheld from public review, the comments received during the Draft PEIS review period will be published and made available in the Final PEIS. A notice of availability of the Final PEIS will be published in the Federal Register and in other public notices. NEPA provides for a 30-day comment period after publication of the Final PEIS, during which the public may comment on the adequacy of responses to comments and the Final PEIS. After that time, a ROD detailing the Coast Guard's decision identifying the selected alternative will be prepared and published in the Federal Register. The entire ROD will be available for public review regardless of whether parts or all of the DEIS and FEIS must be withheld from the public.

Dated: November 3, 2000.
R.J. Casto,
RADM, USCG, Assistant Commandant for Acquisition.

Appendix

The Coast Guard Deepwater Capabilities Replacement Project

The Coast Guard operates in inland, coastal, and Deepwater maritime regions. Deepwater missions are defined as operations that occur at least 50 nautical miles offshore, or require an extended on-scene presence, long transit times to reach the operations area, and/or the forward deployment of forces. Deepwater missions typically require Coast Guard personnel to be involved in long-term, continuous missions, often with deployments away from home stations for several months on end. These missions may also take place in severe environments from arctic to tropical, 24 hours a day, wherever the Coast Guard's presence is required.

Overall, the Coast Guard performs fourteen statutorily mandated missions in the Deepwater regions around the globe. These fall into four main categories: Maritime Law Enforcement; Maritime Safety; National Defense; and Marine Environmental Protection.

Maritime Law Enforcement includes: Living marine resources enforcement, drug interdiction, alien migrant interdiction and general law enforcement.

Maritime Safety includes: Search and rescue (SAR) and the International Ice Patrol.

National Defense includes: General defense operations, maritime intercept operations, deployed port security and defense operations, environmental defense operations, and peacetime military engagement.

Marine Environmental Protection includes: Maritime pollution enforcement and response, lightering zone enforcement and foreign vessel inspection.

In 1999, an Interagency Task Force on United States Coast Guard Roles and Missions was appointed to “provide advice and recommendations regarding the appropriate roles and missions for the Coast Guard through the year 2020,” with special attention to the Deepwater missions. The Task Force's findings affirmed that the Coast Guard must remain a military, multi-mission, maritime service in the 21st century to meet national policies and statutory mandates. The Task Force further recommended that the Coast Guard forces possess inherent operational flexibility and adaptability, including the ability to operate alongside the forces and personnel of other US armed services, US civilian agencies, and nations. In addition, the Coast Guard must strive to be cost effective across all missions.

The Coast Guard's Deepwater ships and aircraft (assets) are aging and technologically obsolete. This equipment was originally acquired from the early 1960s to the mid 1980s. The average age of the Deepwater cutters is 27 years old, making this force older than 36 of the world's 41 major naval fleets. Although some cutters received upgrades, during the next 10 years these cutters will reach the ends of their projected service lives.

Consequently, Deepwater assets lack fundamental capabilities and technologies necessary for efficient and effective mission performance. Examples include poor sensors and night operations capability, inadequate communication systems among Coast Guard units and forces of other services, agencies and navies of other countries. In addition, antiquated technology increases operating and maintenance hours and costs, placing greater demands on the logistics infrastructure.

[FR Doc. 00-28779 Filed 11-8-00; 8:45 am]

BILLING CODE 4910-15-P